DEPARTMENT OF DEFENSE

Department of the Army

Availability of Non-Exclusive, Exclusive License or Partially Exclusive Licensing of U.S. Patent Concerning “Combined Skirt-Reefing and Slider Method for Controlling Parachute Opening”

AGENCY: Department of the Army, DoD.

ACTION: Notice.

SUMMARY: In accordance with 37 CFR Part 404.6, announcement is made of the availability for U.S. licensing of Patent No. US 7,419,122 entitled “Combined Skirt-Reefing and Slider Method for Controlling Parachute Opening” issued September 2, 2008. This patent has been assigned to the United States Government as represented by the Secretary of the Army.

FOR FURTHER INFORMATION CONTACT: Mr. Jeffrey DiTullio at U.S. Army Soldier Systems Center, Kansas Street, Natick, MA 01760, Phone; (508) 233-4184 or e-mail: Jeffrey.Ditullio@us.army.mil.

SUPPLEMENTARY INFORMATION: Any licenses granted shall comply with 35 U.S.C. 209 and 37 CFR Part 404.

Brenda S. Bowen,
Army Federal Register Liaison Officer.

[FR Doc. E8-21924 Filed 9-18-08; 8:45 am]

BILLING CODE 3710-08-P